DEPARTMENT OF HEALTH AND HUMAN SERVICES

National Institutes of Health

Draft National Toxicology Program Technical Reports; Availability of Documents; Request for Comments; Notice of Meeting

SUMMARY: The National Toxicology Program (NTP) announces the availability of three draft NTP Technical Reports (TRs) scheduled for peer review: p-chloro-α,α,α-trifluorotoluene, dietary zinc, and 2,3-butanedione. The peer review meeting is open to the public. Registration is requested for both public attendance and oral comment and required to access the webcast. Information about the meeting and registration are available at http://ntp.niehs.nih.gov/go/36051.

DATES:

Meeting: July 13, 2017, 8:00 a.m. to adjournment at approximately 4:00 p.m. Eastern Daylight Time (EDT).

Document Availability: Draft TRs are available on the NTP Web site at http://ntp.niehs.nih.gov/go/36051.

Written Public Comment Submissions: Deadline is July 6, 2017.

Registration for Oral Comments: Deadline is July 6, 2017.

Registration for Meeting and/or to View Webcast: Deadline is July 13, 2017. Registration to view the meeting via webcast is required.

ADDRESSES:

Meeting Location: Rodbell Auditorium, Rall Building, NIEHS, 111 T.W. Alexander Drive, Research Triangle Park, NC 27709.

Meeting Web page: The draft TRs, preliminary agenda, registration, and other meeting materials will be available at http://ntp.niehs.nih.gov/go/36051.

Webcast: The URL for viewing webcast will be provided to those who register.

FOR FURTHER INFORMATION CONTACT: Canden Byrd, ICF, 2635 Meridian Parkway, Suite 200, Durham, NC, USA 27713. Phone: (919) 293-1660, Fax: (919) 293-1645, Email: canden.byrd@icf.com.

SUPPLEMENTARY INFORMATION:

Meeting and Registration: The meeting is open to the public with time set aside for oral public comment; attendance at the NIEHS is limited only by the space available. Registration to attend the meeting in-person and/or view webcast is by July 13, 2017, at http://ntp.niehs.nih.gov/go/36051. Registration is required to view the webcast; the URL for the webcast will be provided in the email confirming registration. Visitor and security information for those attending in-person is available at http://www.niehs.nih.gov/about/visiting/index.cfm. Individuals with disabilities who need accommodation to participate in this event should contact Canden Byrd by phone: (919) 293-1660 or email: canden.byrd@icf.com. TTY users should contact the Federal TTY Relay Service at (800) 877-8339. Requests should be made at least five business days in advance of the event.

The draft TRs are available on the NTP Web site at http://ntp.niehs.nih.gov/go/36051. The preliminary agenda will be posted by June 1, 2017. Additional information will be posted when available or may be requested in hardcopy, see FOR FURTHER INFORMATION CONTACT. Following the meeting, a report of the peer review will be prepared and made available on the NTP Web site. Individuals are encouraged to access the meeting Web page to stay abreast of the most current information.

Request for Comments: The NTP invites written and oral public comments on the draft TRs. The deadline for submission of written comments is July 6, 2017, to enable review by the peer review panel and NTP staff prior to the meeting. Registration to provide oral comments is by July 6, 2017, at http://ntp.niehs.nih.gov/go/36051. Public comments and any other correspondence on the draft TRs should be sent to the FOR FURTHER INFORMATION CONTACT. Persons submitting written comments should include their name, affiliation, mailing address, phone, email, and sponsoring organization (if any). Written comments received in response to this notice will be posted on the NTP Web site, and the submitter will be identified by name, affiliation, and/or sponsoring organization (if any). Guidelines for public comments are at https://ntp.niehs.nih.gov/ntp/about_ntp/guidelines_public_comments_508.pdf.

Public comment at this meeting is welcome, with time set aside for the presentation of oral comments on the draft TRs. In addition to in-person oral comments at the NIEHS, public comments can be presented by teleconference line. There will be 50 lines for this call; availability is on a first-come, first-served basis. The lines will be open from 8:00 a.m. until adjournment at approximately 4:00 p.m. EDT on July 13, 2017, although oral comments will be received only during the formal public comment periods indicated on the preliminary agenda. The access number for the teleconference line will be provided to registrants by email prior to the meeting. Each organization is allowed one time slot for each draft TR. At least 7 will be allotted to each time slot, and if time permits, may be extended to 10 minutes at the discretion of the chair.

Persons wishing to make an oral presentation are asked to register online at http://ntp.niehs.nih.gov/go/36051 by July 6, 2017, and indicate whether they will present comments in-person or via the teleconference line. If possible, oral public commenters should send a copy of their slides and/or statement or talking points at that time. Written statements can supplement and may expand the oral presentation. Registration for in-person oral comments will also be available at the meeting, although time allowed for presentation by on-site registrants may be less than that for registered speakers and will be determined by the number of speakers who register on-site.

Background Information on NTP Peer Review Panels: NTP panels are technical, scientific advisory bodies established on an “as needed” basis to provide independent scientific peer review and advise the NTP on agents of public health concern, new/revised toxicological test methods, or other issues. These panels help ensure transparent, unbiased, and scientifically rigorous input to the program for its use in making credible decisions about human hazard, setting research and testing priorities, and providing information to regulatory agencies about alternative methods for toxicity screening. The NTP welcomes nominations of scientific experts for upcoming panels. Scientists interested in serving on an NTP panel should provide current curriculum vitae to the FOR FURTHER INFORMATION CONTACT. The authority for NTP panels is provided by 42 U.S.C. 217a; section 222 of the Public Health Service (PHS) Act, as amended. The panel is governed by the Federal Advisory Committee Act, as amended (5 U.S.C. Appendix 2), which sets forth standards for the formation and use of advisory committees.

Dated: May 23, 2017
John R. Bucher,
Associate Director, National Toxicology Program.

[FR Doc. 2017-11885 Filed 6-7-17; 8:45 am]

BILLING CODE 4140-01-P